DEPARTMENT OF TRANSPORTATION

Federal Aviation Administration

14 CFR Part 39

[Docket No. 2000-CE-42-AD; Amendment 39-11965; AD 2000-22-18]

RIN 2120-AA64

Airworthiness Directives; Raytheon Aircraft Company Beech Model 58 Airplanes

AGENCY: Federal Aviation Administration, DOT.

ACTION: Final rule.

SUMMARY: This amendment adopts a new airworthiness directive (AD) that applies to certain Raytheon Aircraft Company (Raytheon) Beech Model 58 airplanes. This AD requires you to inspect the rudder bellcrank interconnect tube for damage; replace or refinish the interconnect tube, if necessary; and modify the floorboard. Four reports of damage to the interconnect tube prompted this action. The actions specified by this AD are intended to correct the wrong use of screws and consequent wear in the pilot/copilot pedal interconnect tube, which could result in loss of rudder control.

DATES: This AD becomes effective on December 29, 2000.

The Director of the Federal Register approved the incorporation by reference of certain publications listed in the regulations as of December 29, 2000.

ADDRESSES: You may get the service information referenced in this AD from Raytheon Aircraft Company, P.O. Box 85, Wichita, Kansas 67201-0085; telephone: (800) 429-5372 or (316) 676-3140; on the Internet at <http://www.raytheon.com/rac/servinfo/27-3013.pdf>. This file is in Adobe Portable Document Format. The Acrobat Reader is available at http://www.adobe.com/. You may examine this information at the Federal Aviation Administration (FAA), Central Region, Office of the Regional Counsel, Attention: Rules Docket No. 2000-CE-42-AD, 901 Locust, Room 506, Kansas City, Missouri 64106; or at the Office of the Federal Register, 800 North Capitol Street, NW, suite 700, Washington, DC.

FOR FURTHER INFORMATION CONTACT: Paul C. DeVore, Aerospace Engineer, FAA, Wichita Aircraft Certification Office, 1801 Airport Road, Mid-Continent Airport, Wichita, Kansas 67209; telephone: (316) 946-4142; facsimile: (316) 946-4407.

SUPPLEMENTARY INFORMATION:

Discussion

What events have caused this AD? The FAA has received four reports of grooves cut in the pilot/copilot rudder interconnect tube. The grooves were discovered during routine inspections.

What are the consequences if the condition is not corrected? This condition could result in jamming or restricting rudder control.

Has FAA taken any action to this point? We issued a proposal to amend part 39 of the Federal Aviation Regulations (14 CFR part 39) to include an AD that would apply to certain Raytheon Beech Model 58 airplanes. This proposal was published in the Federal Register as a notice of proposed rulemaking (NPRM) on September 7, 2000 (65 FR 54184). The NPRM proposed to require you to inspect the rudder bellcrank interconnect tube for damage; if necessary, replace or refinish the rudder bellcrank interconnect tube; and plug the floorboard screw hole.

Was the public invited to comment? Interested persons were afforded an opportunity to participate in the making of this amendment. No comments were received on the proposed rule or the FAA's determination of the cost to the public.

The FAA's Determination

What is FAA's Final Determination on this Issue? After careful review of all available information related to the subject presented above, we have determined that air safety and the public interest require the adoption of the rule as proposed except for minor editorial corrections. We determined that these minor corrections:

—will not change the meaning of the AD; and

—will not add any additional burden upon the public than was already proposed.

Cost Impact

How many airplanes does this AD impact? We estimate that this AD affects 491 airplanes in the U.S. registry.

What is the cost impact of this AD on owners/operators of the affected airplanes? We estimate the following costs to accomplish the modification of the floorboard and inspection of the rudder bellcrank interconnect tube:

Labor cost | Parts cost | Total cost per airplane | Total cost on U.S. airplane operators
4 workhours × $60 per hour = $240 | Parts are provided at no charge under warranty | $240 per airplane | $240 × 491 = $117,840.

We estimate the following costs to accomplish the modification or replacement of the bellcrank interconnect tube:

Labor cost | Parts cost | Total cost per airplane | Total cost on U.S. airplane operators
1 workhour × $60 per hour = $60 | Parts are provided at no charge under warranty | $60 per airplane | $60 × 491 = $29,460.

Note: The manufacturer will allow warranty credit for labor and parts to the extent noted in the service bulletin.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by Reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2000-22-18 Raytheon Aircraft Company: Amendment 39-11965; Docket No. 2000-CE-42-AD.

(a) What airplanes are affected by this AD? This AD affects Beech Model 58 airplanes; serial numbers TH-1389, and TH-1396 through TH-1885, that are certificated in any category.

(b) Who must comply with this AD? Anyone who wishes to operate any of the above airplanes must comply with this AD.

(c) What problem does this AD address? The actions specified by this AD are intended to correct the wrong use of screws and consequent wear in the pilot/copilot pedal interconnect tube, which could result in loss of rudder control.

(d) What actions must I accomplish to address this problem? To address this problem, you must do the following actions:

Actions | Compliance times | Procedures
(1) Inspect the rudder bellcrank interconnect tube for damage and ensure the floorboard panel screws are ¾ inch or less in length. Screws that are longer than ¾ inch in length can damage parts installed immediately below the floorboards | Inspect within the next 6 calendar months after December 29, 2000 (the effective date of this AD) | Do this inspection in accordance with the ACCOMPLISHMENT INSTRUCTIONS paragraph of Raytheon Mandatory Service Bulletin SB 27-3013, Issued: June 2000, and the Baron Model 58 Shop Manual.
(2) If you find no damage to the rudder bellcrank interconnect tube, discard any self-tapping coarse thread screw installed in the flanges that is longer than ¾ inch | Before further flight after the inspection | Do these actions in accordance with the ACCOMPLISHMENT INSTRUCTIONS paragraph of Raytheon Mandatory Service Bulletin SB 27-3013, Issued: June 2000, and the Baron 58 Shop Manual.
(3) If you find damage to the rudder bellcrank interconnect tube, and the damage has not worn into the aluminum interconnect tube, refinish the interconnect tube and discard any self-tapping coarse thread screw installed in the flanges that is longer than ¾ inch | Before further flight after the inspection | Do these actions in accordance with the ACCOMPLISHMENT INSTRUCTIONS paragraph of Raytheon Mandatory Service Bulletin SB 27-3013, Issued: June 2000, and the Baron 58 Shop Manual.
(4) If you find damage to the rudder bellcrank interconnect tube, and the damage has worn into the aluminum interconnect tube, you must replace the interconnect tube and discard any self-tapping coarse thread screw installed in the flanges that is longer than ¾ inch | Before further flight after the inspection | Do these actions in accordance with the ACCOMPLISHMENT INSTRUCTIONS paragraph of Raytheon Mandatory Service Bulletin SB 27-3013, Issued: June 2000, and the Baron 58 Shop Manual.
(5) Plug the floorboard screw hole | Before further flight after the inspection | Do these actions in accordance with the ACCOMPLISHMENT INSTRUCTIONS paragraph of Raytheon Mandatory Service Bulletin SB 27-3013, Issued: June 2000, and the Baron 58 Shop Manual.

(e) Can I comply with this AD in any other way? You may use an alternative method of compliance or adjust the compliance time if:

(1) Your alternative method of compliance provides an equivalent level of safety; and

(2) The Manager, Wichita Aircraft Certification Office (ACO), approves your alternative. Send your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. You should include in the request an assessment of the effect of the modification, alteration, or repair on the unsafe condition addressed by this AD; and, if you have not eliminated the unsafe condition, specific actions you propose to address it.

(f) Where can I get information about any already-approved alternative methods of compliance? Contact Paul C. DeVore, Aerospace Engineer, FAA, Wichita Aircraft Certification Office, 1801 Airport Road, Mid-Continent Airport, Wichita, Kansas 67209; telephone: (316) 946-4142; facsimile: (316) 946-4407.

(g) What if I need to fly the airplane to another location to comply with this AD? The FAA can issue a special flight permit under sections 21.197 and 21.199 of the Federal Aviation Regulations (14 CFR 21.197 and 21.199) to operate your airplane to a location where you can do the requirements of this AD.

(h) Are any service bulletins incorporated into this AD by reference? Actions required by this AD must be done in accordance with Raytheon Mandatory Service Bulletin SB 27-3013, Issued: June 2000. The Director of the Federal Register approved this incorporation by reference under 5 U.S.C. 552(a) and 1 CFR part 51. You can get copies from Raytheon Aircraft Company, P.O. Box 85, Wichita, Kansas 67201-0085; telephone: (800) 429-5372 or (316) 676-3140; or on the Internet at <http://www.raytheon.com/rac/ servinfo/27-3013.pdf>. This file is in Adobe Portable Document Format. The Acrobat Reader is available at <http://www.adobe.com/>. You can look at copies at the FAA, Central Region, Office of the Regional Counsel, 901 Locust, Room 506, Kansas City, Missouri, or at the Office of the Federal Register, 800 North Capitol Street, NW, suite 700, Washington, DC.

(i) When does this amendment become effective? This amendment becomes effective on December 29, 2000.

Issued in Kansas City, Missouri, on October 30, 2000.
Marvin R. Nuss,
Acting Manager, Small Airplane Directorate, Aircraft Certification Service.

[FR Doc. 00-28438 Filed 12-1-00; 8:45 am]

BILLING CODE 4910-13-P